ENVIRONMENTAL PROTECTION AGENCY

[FRL-7914-2]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1692.05; NESHAP for Petroleum Refineries (Renewal); in 40 CFR part 63, subpart CC; was approved 04/21/2005; OMB Number 2060-0340; expires 04/30/2008.

EPA ICR No. 2137.02; Standards of Performance for New and Existing Stationary Sources: Electric Utility Steam Generating Units (Final Rule); in 40 CFR part 60, subparts Da and HHHH; was approved 04/22/2005; OMB Number 2060-0567; expires 04/30/2008.

EPA ICR No. 1805.04; NESHAP for Chemical Recovery Combustion Sources at Kraft, Soda, Sulfite, and Stand-Alone Semi-Chemical Pulp Mills; in 40 CFR part 63, subpart MM; was approved 04/22/2005; OMB Number 2060-0377; expires 04/30/2008.

EPA ICR No. 1125.04; NESHAP for Beryllium Rocket Motor Firing (Renewal); in 40 CFR part 61, subpart D; was approved 04/21/2005; OMB Number 2060-0394; expires 04/30/2008.

EPA ICR No. 1657.05; NESHAP for Pulp and Paper Production (Renewal); in 40 CFR part 63, subpart S; was approved 04/20/2005; OMB Number 2060-0387; expires 04/30/2008.

EPA ICR No. 0186.10; NESHAP for Vinyl Chloride (Renewal); in 40 CFR part 61, subpart F; was approved 04/20/2005; OMB Number 2060-0071; expires 04/30/2008.

EPA ICR No. 1506.10; NSPS for Municipal Waste Combustors (Renewal); in 40 CFR part 60, subparts Ea and Eb; was approved 04/21/2005; OMB Number 2060-0210; expires 04/30/2008.

EPA ICR No. 2158.01; Pretest of the Pollution Abatement Costs and Expenditures (PACE) Survey; was approved 04/14/2005; OMB Number 2010-0040; expires 04/30/2006.

EPA ICR No. 0559.08; Application for Reference and Equivalent Method Determination (Renewal); in 40 CFR part 53; was approved 05/02/2005; OMB Number 2080-0005; expires 05/31/2008.

EPA ICR No. 0959.12; Facility Ground-Water Monitoring Requirements (Renewal); in 40 CFR 264.98(c), (g)(1), (g)(5), (g)(6); 40 CFR 264.99(c), (g), (h)(1), (i)(1), (i)(2); 40 CFR 264.100 (e), (f), (g); 40 CFR 250.90-250.94; was approved 05/03/2005; OMB Number 2050-0033; expires 05/31/2008.

EPA ICR No. 2154.02; Technology Performance and Product Information to Support Vendor Information Summaries (Renewal); was approved 05/05/2005; OMB Number 2050-0194; expires 05/31/2008.

EPA ICR No. 0586.10; TSCA Section 8(a) Preliminary Assessment Information Rule (PAIR); in 40 CFR part 712, 40 CFR part 792; was approved 05/05/2005; OMB Number 2070-0054; expires 05/31/2008.

EPA ICR No. 2180.01; Recordkeeping and Reporting for the Performance-Based Qualification of Test Methods for Diesel Fuel; in 40 CFR part 80.29; 40 CFR part 80.240, 40 CFR part 80.530-532; 40 CFR part 80.535-536; 40 CFR part 80.550-555; 40 CFR part 80.560-561, 40 CFR part 80.590-594; 40 CFR part 80.597; 40 CFR part 80.600-604; 40 CFR part 80.607; 40 CFR part 80.620; was approved 05/05/2005; OMB Number 2060-0566; expires 09/20/2005.

EPA ICR No. 1800.03; Information Requirement for Locomotives and Locomotive Engines (Renewal); in 40 CFR part 92; was approved 05/05/2005; OMB Number 2060-0392; expires 05/31/2008.

EPA ICR No. 1702.04; Retrofit/Rebuild Requirements for 1993 and Earlier Model Year Urban Buses (Renewal); in 40 CFR part 85, subpart O; was approved 05/05/2005; OMB Number 2060-0302; expires 05/31/2008.

EPA ICR No. 1723.04; Reporting and Recordkeeping Requirements for Importation of Nonroad Engines and Recreational Vehicles (Renewal); in 40 CFR part 89, subparts G and J; 40 CFR part 90, subparts G and J; 40 CFR part 91, subparts H and K; 40 CFR part 92, subparts I and J; 40 CFR part 94, subparts I and K; 40 CFR part 1068, subparts C and D; was approved 05/05/2005; OMB Number 2060-0320; expires 05/31/2008.

EPA ICR No. 1759.04; Worker Protection Standard Training and Notification; in 40 CFR part 170; was approved 05/05/2005; OMB Number 2070-0148; expires 05/31/2008.

OMB Disapproval

EPA ICR No. 1945.02; State Water Quality Program Management Resource (Gap) Analysis; was disapproved 04/15/05; OMB Number 2040-0216.

Dated: May 11, 2005.
Richard T. Westlund,
Acting Director, Collection Strategies Division.

[FR Doc. 05-9906 Filed 5-17-05; 8:45 am]

BILLING CODE 6560-50-P